DEPARTMENT OF LABOR

Employment and Training Administration

Proposed Collection; Comment Request; Correction

AGENCY: Employment and Training Administration; USDOL.

ACTION: Correction.

SUMMARY: In notice document 00-18606 on page 45619 in the issue of Monday, July 24, 2000, make the following correction:

On page 45619 in the second column, under DATES: the phrase “August 31, 2000” should be changed to read “September 22, 2000”.

Dated: July 24, 2000.
Richard C. Trigg,
National Director, Job Corps.

[FR Doc. 00-19001 Filed 7-26-00; 8:45 am]

BILLING CODE 4510-30-M